DEPARTMENT OF VETERANS AFFAIRS

[OMB Control No. 2900-0784]

Agency Information Collection Activity: NCA PreNeed Burial Planning

AGENCY: National Cemetery Administration, Department of Veterans Affairs.

ACTION: Notice.

SUMMARY: In compliance with the Paperwork Reduction Act (PRA) of 1995, this notice announces that the National Cemetery Administration, Department of Veterans Affairs, will submit the collection of information abstracted below to the Office of Management and Budget (OMB) for review and comment. The PRA submission describes the nature of the information collection and its expected cost and burden, and it includes the actual data collection instrument.

DATES: Comments and recommendations for the proposed information collection should be sent by March 16, 2026.

ADDRESSES: To submit comments and recommendations for the proposed information collection, please type the following link into your browser: www.reginfo.gov/public/do/PRAMain, select “Currently under Review—Open for Public Comments”, then search the list for the information collection by Title or “OMB Control No. 2900-0784.”

FOR FURTHER INFORMATION CONTACT: VA PRA information: Dorothy Glasgow, (202) 461-1084, VAPRA@va.gov.

SUPPLEMENTARY INFORMATION:

Title: NCA PreNeed Burial Planning.

OMB Control Number: 2900-0784.

Type of Review: Revision of a currently approved collection.

Abstract: This information (VA Form 40-10007) is needed to collect information from Veterans and service members who wish to determine their eligibility for burial in a VA national cemetery prior to their time of need for planning purposes. The data will be used for this purpose. The burden increased since the previous approval due to an increase in the number of respondents and responses. The number of respondents increased to 50,000 from the previous approval of 47,400 in 2023. Due to more respondents and an increase in the hourly wage rate, the cost to respondents increased from $442,558 to $524,667 resulting in an increase of $82,109 in respondent cost. The cost to the Federal Government increased due to the annual responses increasing since the previous approval.

An agency may not conduct or sponsor, and a person is not required to respond to a collection of information unless it displays a currently valid OMB control number. The Federal Register Notice with a 60-day comment period soliciting comments on this collection of information was published at: 90 FR 57285, December 10, 2025.

Affected Public: Individuals and households.

Estimated Annual Burden: 16,667 hours.

Estimated Average Burden per Respondent: 20 minutes.

Frequency of Response: One time.

Estimated Number of Respondents: 50,000.

Authority: 44 U.S.C. 3501 et seq.

Lanea Haynes,
Acting, VA PRA Clearance Officer, (Alt) Office of Information Technology, Data Governance Analytics Department of Veterans Affairs.

[FR Doc. 2026-02979 Filed 2-12-26; 8:45 am]

BILLING CODE 8320-01-P